DEPARTMENT OF DEFENSE

Department of the Navy

Notice of Public Meetings for the Draft Environmental Impact Statement/Overseas Environmental Impact Statement for Navy Hawaii-Southern California Training and Testing

AGENCY: Department of the Navy, DoD.

ACTION: Notice.

SUMMARY: Pursuant to section 102(2)(c) of the National Environmental Policy Act of 1969, and regulations implemented by the Council on Environmental Quality regulations (40 Code of Federal Regulations parts 1500-1508), and Presidential Executive Order 12114, the Department of the Navy (DoN) has prepared and filed with the U.S. Environmental Protection Agency a Draft Environmental Impact Statement (EIS)/Overseas EIS (OEIS). The Draft EIS/OEIS evaluates the potential environmental effects associated with military readiness training and research, development, test and evaluation activities (training and testing) conducted within the Hawaii-Southern California Training and Testing (HSTT) Study Area. The National Marine Fisheries Service (NMFS) is a Cooperating Agency for the EIS/OEIS.

The HSTT Study Area is comprised of established operating and warning areas across the north-central Pacific Ocean, from Southern California west to Hawaii and the International Date Line. The Study Area combines the at-sea portions of the Hawaii Range Complex; the Southern California Range Complex; the Silver Strand Training Complex; transit corridors on the high seas that are not part of the range complexes where training and sonar testing may occur during vessel transit between the Hawaii Range Complex and the Southern California Range Complex; and Navy pierside locations where sonar maintenance and testing activities occurs. The HSTT Study Area includes only the at-sea components of the range complexes and testing ranges. The land-based portions of the range complexes are not a part of the Study Area and will be or already have been addressed under separate DoN environmental planning documentation.

With the filing of the Draft EIS/OEIS, the DoN is initiating a 60-day public comment period, beginning on May 11, 2012 and ending on July 10, 2012. During this period the DoN will conduct five public meetings to receive oral and written comments on the Draft EIS/OEIS. This notice announces the dates and locations of the public meetings and provides supplementary information about the environmental planning effort.

DATES and ADDRESSES: Public information and comment meetings will be held at each of the locations listed below between 5:00 p.m. and 8:00 p.m. The meetings will provide individuals with information on the Draft EIS/OEIS in an open house format. DoN and NMFS representatives at informational poster stations will be available during the public meetings to clarify information related to the Draft EIS/OEIS.

The public meetings will be held between 5:00 p.m. and 8:00 p.m. on the following dates and at the following locations:

1. June 12, 2012 (Tuesday) at the Wilcox Elementary School Cafeteria, 4319 Hardy Street, Lihue, HI.

2. June 13, 2012 (Wednesday at Maui Waena Intermediate School Cafeteria, 795 Onehee Avenue, Kahului, HI.

3. June 14, 2012 (Thursday) at East Hawaii Cultural Center, 141 Kalakaua Street, Hilo, HI.

4. June 15, 2012 (Friday) at McKinley High School Cafeteria, 1039 South King Street, Honolulu, HI.

5. June 20, 2012 (Wednesday) at Marina Village Conference Center, Starboard Room, 1936 Quivira Way, San Diego, CA.

Federal, State and local agencies and officials, interested groups and individuals are encouraged to provide oral comments in person at any of the public meetings or in writing anytime during the public comment period. Oral testimony from the public will be recorded by a court reporter. In the interest of available time, and to ensure all who wish to give an oral statement to the court reporter have the opportunity to do so, each speaker's comments will be limited to three (3) minutes, which may be extended if meeting attendance permits. Comments may also be submitted via the U.S. Postal Service to Naval Facilities Engineering Command, Southwest, Attention: HSTT EIS/OEIS Project Manager—EV21.CS; 1220 Pacific Highway, Building 1, Floor 3, San Diego, CA 92132-5190 or electronically via the project Web site (http://www.HSTTEIS.com). All statements, oral or written, submitted during the public review period will become part of the public record on the Draft EIS/OEIS and will be responded to in the Final EIS/OEIS. Equal weight will be given to oral and written statements. All public comments must be postmarked or received by July 10, 2012 to ensure they become part of the official record.

FOR FURTHER INFORMATION CONTACT: Naval Facilities Engineering Command, Southwest, Attention: HSTT EIS/OEIS Project Manager—EV21.CS; 1220 Pacific Highway, Building 1, Floor 3, San Diego, CA 92132-5190.

SUPPLEMENTARY INFORMATION: A Notice of Intent to prepare this Draft EIS/OEIS was published in the Federal Register on July 15, 2010 (75 FR 41162).

The DoN's Proposed Action is to conduct training and testing activities—which may include the use of active Sound Navigation and Ranging (sonar) and explosives—primarily within existing range complexes and testing ranges throughout the in-water areas around the Hawaiian Islands and off the coast of Southern California, Navy pierside locations, and the ocean transit corridor between Hawaii and Southern California. The purpose of the Proposed Action is to conduct training and testing activities to ensure that the DoN accomplishes its mission to maintain, train, and equip combat-ready U.S. naval forces capable of winning wars, deterring aggression, and maintaining freedom of the seas. This Draft EIS/OEIS will also support the renewal of federal regulatory permits and authorizations for current training and testing activities and to propose future training and testing activities requiring environmental analysis.

The Draft EIS/OEIS evaluates the potential environmental impacts of three alternatives, including the No Action Alternative and two action alternatives. The No Action Alternative continues baseline training and testing activities, as defined by existing DoN environmental planning documents. Alternatives 1 and 2 analyze adjustments to Study Area boundaries and the location, type, and level of training and testing activities necessary to support current and planned DoN training and testing requirements through 2019. The analysis addresses force structure changes, including those resulting from the development, testing, and ultimate introduction of new vessels, aircraft and weapons systems into the fleet.

No significant adverse impacts are identified for any resource area in any geographic location within the Study Area that cannot be mitigated. Additionally, due to the exposure of marine mammals to underwater sound, NMFS has received an application from DoN for a Marine Mammal Protection Act Letter of Authorization and governing regulations to authorize incidental take of marine mammals that may result from the implementation of the activities analyzed in the Draft EIS/OEIS. In accordance with Section 7 of the Endangered Species Act, the DoN is consulting with NMFS and U.S. Fish and Wildlife Service, as appropriate, for potential impacts to federally listed species. In accordance with the Magnuson-Stevens Fishery Conservation and Management Act, the DoN is consulting with NMFS on Federally managed species and their essential fish habitat.

The Draft EIS/OEIS was distributed to Federal, State and local agencies, elected officials, as well as other interested individuals and organizations. Copies of the Draft EIS/OEIS are also available for public review at the following libraries:

1. Lihue Public Library, 4344 Hardy Street, Lihue, HI 96766.

2. Wailuku Public Library, 251 High Street, Wailuku, HI 96793.

3. Hilo Public Library, 300 Waianuenue Avenue, Hilo, HI 96720.

4. Kailua-Kona Public Library, 75-138 Hualalai Road, Kailua-Kona, HI 96740.

5. Hawaii State Library, Hawaii and Pacific Section Document Unit, 478 South King Street, Honolulu, HI 96813.

6. San Diego Central Library, 820 E Street, San Diego, CA 92101.

7. Long Beach Main Library, 101 Pacific Avenue, Long Beach, CA 90822.

In addition, copies of the HSTT Draft EIS/OEIS are available for electronic viewing or download at http://www.HSTTEIS.com. A paper copy of the Executive Summary or a single compact disc of the Draft EIS/OEIS will be made available upon written request by contacting: Naval Facilities Engineering Command, Southwest, Attention: HSTT EIS/OEIS Project Manager—EV21.CS; 1220 Pacific Highway, Building 1, Floor 3, San Diego, CA 92132-5190.

Dated: May 7, 2012.
J.M. Beal,
Lieutenant Commander, Office of the Judge Advocate General, U.S. Navy, Federal Register Liaison Officer.

[FR Doc. 2012-11387 Filed 5-10-12; 8:45 am]

BILLING CODE 3810-FF-P